ENVIRONMENTAL PROTECTION AGENCY

40 CFR Parts 174 and 180

[EPA-HQ-OPP-2011-0082; FRL-8880-1]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before August 19, 2011.

ADDRESSES: Submit your comments, identified by docket identification (ID) number and the pesticide petition number (PP) of interest as shown in the body of this document, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001.

• Delivery: OPP Regulatory Public Docket (7502P), Environmental Protection Agency, Rm. S-4400, One Potomac Yard (South Bldg.), 2777 S. Crystal Dr., Arlington, VA. Deliveries are only accepted during the Docket Facility's normal hours of operation (8:30 a.m. to 4 p.m., Monday through Friday, excluding legal holidays). Special arrangements should be made for deliveries of boxed information. The Docket Facility telephone number is (703) 305-5805.

Instructions: Direct your comments to the docket ID number and the pesticide petition number of interest as shown in the body of this document. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: A contact person, with telephone number and e-mail address, is listed at the end of each pesticide petition summary. You may also reach each contact person by mail at Registration Division (7505P), Office of Pesticide Programs, Environmental Protection Agency, 1200 Pennsylvania Ave., NW., Washington, DC 20460-0001.

SUPPLEMENTARY INFORMATION:

I. General Information

A. Does this action apply to me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed at the end of the pesticide petition summary of interest.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available on-line at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerances

1. PP 1E7842. (EPA-HQ-OPP-2011-0343). Interregional Research Project Number 4 (IR-4), 500 College Road East, Suite 201W, Princeton, NJ 08540, requests to establish tolerances in 40 CFR part 180 for residues of the insecticide methoxyfenozide per se, benzoic acid, 3-methoxy-2-methyl-, 2-(3,5-dimethylbenzoyl)-2-(1,1-dimethylethyl) hydrazide, in or on fruit, citrus, group 10-10 at 1.9 parts per million (ppm); lemon, oil at 45 ppm; citrus, oil (except lemon) at 100 ppm; vegetable, root, except sugar beet, subgroup 1B at 0.8 ppm; and beet, sugar at 0.5 ppm. Analytical methodology for the magnitude of residue studies in citrus was based on a procedure based on Dow AgroSciences method GRM 02.25 “Determination of Residues of Methoxyfenozide in High Moisture Crops by Liquid Chromatography with Tandem Mass Spectrometry Detection (LC/MS/MS)”. Analytical methodology for the magnitude of residue studies in root crops used a procedure based on the Rohm and Haas Technical Report No. 34-98-87, “Tolerance enforcement method for Parent RH-2485 in Pome Fruit” with minor modifications. Contact: Sidney Jackson, (703) 305-7610, e-mail address: jackson.sidney@epa.gov.

2. PP 1E7850. (EPA-HQ-OPP-2011-0357). Interregional Research Project Number 4 (IR-4), 500 College Road East, Suite 201W, Princeton, NJ 08540, requests to establish tolerances in 40 CFR part 180 for residues of the insecticide fenpyrazamine, 5-amino-2,3-dihydro-2-(1-methylethyl)-4-(2-methylphenyl)-3-oxo-1H-pyrazole-1-carbothioic acid, S-2-propen-1-yl ester in or on caneberry subgroup 13-07A at 7.0 ppm; bushberry subgroup 13-07B at 7.0 ppm; pistachio at 0.02 ppm; and ginseng at 0.8 ppm. A practical analytical method utilizing LC/MS detection is available and has been validated for detecting and measuring residues of fenpyrazamine (fenpyrazamine and S-2188-DC) in and on crops. Contact: Sidney Jackson, (703) 305-7610, e-mail address: jackson.sidney @epa.gov.

3. PP 1E7851. (EPA-HQ-OPP-2011-0398). Interregional Research Project Number 4 (IR-4), 500 College Road East, Suite 201W, Princeton, NJ 08540, requests to establish tolerances in 40 CFR part 180 for residues of the fungicide azoxystrobin, (methyl (E)-2-[2-[6-(2-cyanophenoxy)pyrimidin-4-yloxy]phenyl]-3-methoxyacrylate) and the Z isomer of azoxystrobin, (methyl (Z)-2-[2-[6-(2-cyanophenoxy)pyrimidin-4-yloxy]pheny1]-3-methoxyacrylate), in or on onion, bulb, subgroup 3-07A at 1.0 ppm; onion, green, subgroup 3-07B at 7.5 ppm; caneberry subgroup 13-07A at 5.0 ppm; bushberry subgroup 13-07B at 3.0 ppm; small fruit vine climbing subgroup, except fuzzy kiwifruit, 13-07F at 1.0 ppm; low growing berry subgroup 13-07G, except cranberry, at 10.0 ppm; vegetable, fruiting, subgroup 8-10A at 0.2 ppm; vegetable, fruiting, subgroups 8-10B at 2.0 ppm; fruit, citrus, group 10-10 at 10.0 ppm; rapeseed subgroup 20A at 1.0 ppm; sunflower subgroup 20B at 0.5 ppm; cottonseed subgroup 20C at 0.6 ppm; wasabi at 50.0 ppm; dragon fruit at 2.0 ppm. An adequate analytical method, gas chromatography with nitrogen-phosphorus detection (GC/NPD) or in mobile phase by high performance liquid chromatography with ultra-violet detection (HPLC/UV), is available for enforcement purposes with a limit of detection that allows monitoring of food with residues at or above the levels set in these tolerances. The Analytical Chemistry section of the EPA concluded that the method(s) are adequate for enforcement. Analytical methods are also available for analyzing meat, milk, poultry and eggs which also underwent successful independent laboratory validations. Contact: Andrew Ertman, (703) 308-9367, e-mail address: ertman.andrew@epa.gov.

4. PP 1E7852. (EPA-HQ-OPP-2011-0300). Interregional Research Project Number 4 (IR-4), 500 College Road East, Suite 201W, Princeton, NJ 08540, requests to establish tolerances in 40 CFR part 180 for residues of the fungicide difenoconazole, 1-[2-[2-chloro-4-(4-chlorophenoxy)phenyl]-4-methyl-1,3-dioxolan-2-ylmethyl]-1H-1,2,4,-triazole, including its metabolites and degradates in or on vegetable, fruiting, group 8-10 at 0.6 ppm; fruit, citrus, group 10-10 at 0.6 ppm; fruit, pome, group 11-10 at 1.0 ppm; and low growing berry subgroup 13-07G, except cranberry at 2.5 ppm. Syngenta Crop Protection, Inc., has submitted a practical analytical method (AG-575B) for detecting and measuring levels of difenoconazole in or on food with a limit of quantitation (LOQ) that allows monitoring of food with residues at or above the levels set in the proposed tolerances. Method REM 147.08 is also available for enforcement method, for the determination of residues of difenoconazole in crops. Residues are qualified by LC/MS/MS. Contact: Sidney Jackson, (703) 305-7610, e-mail address: jackson.sidney@epa.gov.

5. PP 1E7853. (EPA-HQ-OPP-2011-0395). Interregional Research Project Number 4 (IR-4), 500 College Road East, Suite 201W, Princeton, NJ 08540, requests to establish tolerances in 40 CFR part 180 for residues of the fungicide fludioxonil, (4-(2, 2-difluoro-1,3-benzodioxol-4-yl)-1H-pyrrole-3-carbonitrile), in or on acerola at 5.0 ppm; atemoya at 20 ppm; biriba at 20 ppm; cherimoya at 20 ppm; custard apple at 20 ppm; feijoa at 5.0 ppm; guava at 5.0 ppm; ilama at 20 ppm; jaboticaba at 5.0 ppm; passionfruit at 5.0 ppm; soursop at 20 ppm; starfruit at 5.0 ppm; sugar apple at 20 ppm; wax jambu at 5.0 ppm; ginseng at 3.0 ppm; onion, bulb subgroup 3-07A at 0.2 ppm; onion, green subgroup 3-07B at 7.0 ppm; caneberry subgroup 13-07A at 5.0 ppm; bushberry subgroup 13-07B at 2.0 ppm; fruit, small vine climbing, except fuzzy kiwifruit, subgroup 13-07F at 1.0 ppm; berry, low growing, subgroup 13-07G, except cranberry at 2.0 ppm; vegetable, fruiting, group 8-10, except tomato at 0.7 ppm; fruit, citrus, group 10-10 at 10 ppm; fruit, pome, group 11-10 at 5.0 ppm; leafy greens subgroup 4A at 30 ppm; potato at 6.0 ppm; pineapple at 8.0 ppm; and dragon fruit at 1.0 ppm. Syngenta has developed and validated analytical methodology for enforcement purposes. This method (Syngenta Crop Protection Method AG-597B) has passed an Agency petition method validation for several commodities, and is currently the enforcement method for fludioxonil. An extensive database of method validation data using this method on various crop commodities is available. Contact: Laura Nollen, (703) 305-7390, e-mail address: nollen.laura@epa.gov.

6. PP 1E7854. (EPA-HQ-OPP-2011-0394). Interregional Research Project Number 4 (IR-4), 500 College Road East, Suite 201W, Princeton, NJ 08540, requests to establish tolerances in 40 CFR part 180 for residues of the fungicide cyprodinil, 4-cyclopropyl-6-methyl-N-phenyl-2-pyrimidinamine, in or on onion, bulb, subgroup 3-07A at 0.6 ppm; onion, green, subgroup 3-07B at 4.0 ppm; caneberry subgroup 13-07A at 10.0 ppm; bushberry subgroup 13-07B at 3.0 ppm; fruit, small vine climbing, except fuzzy kiwifruit, subgroup 13-07F at 2.0 ppm; berry, low growing, subgroup 13-07G, except cranberry at 5.0 ppm; dragon fruit at 2.0 ppm; fruit, pome, group 11-10 at 1.7 ppm; vegetable, fruiting, group 8-10 at 1.3 ppm; and leafy greens subgroup 4A at 40 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Laura Nollen, (703) 305-7390, e-mail address: nollen.laura@epa.gov.

7. PP 1E7855. (EPA-HQ-OPP-2011-0397). Interregional Research Project Number 4 (IR-4), 500 College Road East, Suite 201W, Princeton, NJ 08540, requests to establish tolerances in 40 CFR part 180 for residues of the fungicide propiconazole, 1-[[2-(2,4-dichlorophenyl)-4-propyl-1,3-dioxolan-2-yl] methyl]-1H-1,2,4-triazole and its metabolites determined as 2,4,-dichlorobenzoic acid (DCBA) and expressed as parent compound, in or on bean, snap at 0.8 ppm; bean, succulent shelled at 0.15 ppm; bean, dry seed at 0.3 ppm; legume, foliage at 25 ppm; tomato at 2.5 ppm; fruit, citrus, group 10-10 at 8.0 ppm; fruit, stone, group 12, except plum at 7.0 ppm; plum at 1.0 ppm. Analytical methods AG-626 and AG-454A were developed for the determination of residues of propiconazole and its metabolites containing the DCBA moiety. Analytical method AG-626 has been accepted and published by EPA as the tolerance enforcement method for crops. Contact: Andrew Ertman, (703) 308-9367, e-mail address: ertman.andrew@epa.gov.

8. PP 1E7861. (EPA-HQ-OPP-2011-0477). Interregional Research Project Number 4 (IR-4), 500 College Road East, Suite 201W, Princeton, NJ 08540, requests to establish tolerances in 40 CFR part 180 for residues of the fungicide pyrimethanil, (4,6-dimethyl-N-phenyl-2-pyrimidinamine), in or on onion, bulb, subgroup 03-07A at 0.1 ppm; onion, green, subgroup 03-07B at 2.0 ppm; berry and small fruit, small fruit vine climbing subgroup, except fuzzy kiwifruit 13-07F at 5.0 ppm; berry and small fruit, low growing berry subgroup 13-07G at 3.0 ppm; and ginseng at 2.5 ppm. The plant metabolism studies demonstrated that analysis for the parent compound, pyrimethanil is sufficient to enable the assessment of the relevant residues in crop commodities. Pyrimethanil was extracted from apples by homogenization with acetone. An aliquot of the extract was diluted with a mixture of acetonitrile and water with subsequent residue determination by HPLC/MS/MS. The method allows the detection and measurement of residues in or on agricultural commodities at or above the proposed tolerance level. Contact: Andrew Ertman, (703) 308-9367, e-mail address: ertman.andrew @epa.gov.

9. PP 1E7864. (EPA-HQ-OPP-2011-0449). Interregional Research Project Number 4 (IR-4), 500 College Road East, Suite 201W, Princeton, NJ 08540, requests to establish tolerances in 40 CFR part 180 for residues of the miticide acequinocyl, [2-(acetyloxy)-3-dodecyl-1,4-naphthalenedione] and its metabolite, 2-dodecyl-3-hydroxy-1,4-naphthoquinone, expressed as acequinocyl equivalents, in or on bean, succulent shelled at 0.15 ppm; caneberry subgroup 13-07A at 4.5 ppm; cherry at 0.8 ppm; cowpea, forage at 9.0 ppm; cucumber at 0.15 ppm; melon subgroup 9A at 0.06 ppm; soybean, vegetable, succulent at 0.25 ppm; fruit, small vine climbing, except fuzzy kiwifruit, subgroup 13-07F at 1.6 ppm; and berry, low growing, subgroup 13-07G at 0.4 ppm. The analytical method to quantitate residues of acequinocyl and acequinocyl-OH in/on food crops utilizes HPLC/MS/MS detection all crops listed in the petition. The lowest level of method validation (LLMV) for acequinocyl and acequinocyl-OH varied with the crop matrix. Contact: Laura Nollen, (703) 305-7390, e-mail address: nollen.laura@epa.gov.

10. PP 1E7878. (EPA-HQ-OPP-2011-0521). Interregional Research Project Number 4 (IR-4), 500 College Road East, Suite 201W, Princeton, NJ 08540, requests to establish a tolerance in 40 CFR part 180 for residues of the herbicide pendimethalin, N-(1-ethylpropyl)-3,4-dimethyl-2,6dinitrobenzenamine, and its 3, 5-dinitrobenzyl alcohol metabolite (CL 202347), in or on lettuce, leaf at 3.0 ppm; Brassica, leafy greens, subgroup 5B at 0.2 ppm; turnip greens at 0.2 ppm; melons subgroup 9A at 0.1 ppm; vegetable, soybean, succulent at 0.1 ppm; and small fruit vine climbing subgroup 13-07E, except grape at 0.1 ppm. Section 408 (b)(3) of the amended FDCA requires EPA to determine that there is a practical method for detecting and measuring levels of the pesticide chemical residue in or on food and that the tolerance be set at a level at or above of the limit of detection of the designated method. In plants, the method is aqueous organic solvent extraction, column cleanup, and quantitation by GC. The method has a LOQ of 0.05 ppm for pendimethalin and the alcohol metabolite. Contact: Andrew Ertman, (703) 308-9367, e-mail address: ertman.andrew@epa.gov.

11. PP 0F7713. (EPA-HQ-OPP-2011-0456). Bayer CropScience, 2 T.W. Alexander Drive, P.O. Box 12014, Research Triangle Park, NC 27709, requests to establish tolerances in 40 CFR part 180 for residues of the fungicide trifloxystrobin (benzeneacetic acid, (E,E)-α-(methoxyimino)-2-[[[[1-[3-(trifluoromethyl)phenyl] ethylidene]amino]oxy]methyl]-methyl ester) and the free form of its acid metabolite CGA-321113 ((E,E)-methoxyimino-[2-[1-(3-trifluoromethyl-phenyl)-ethylideneaminooxymethyl]-phenyl]acetic acid), in or on alfalfa, forage at 0.01 ppm and alfalfa, hay at 0.01 ppm. A practical analytical methodology for detecting and measuring levels of trifloxystrobin in or on raw agricultural commodities has been submitted. The method is based on crop specific cleanup procedures and determination by gas chromatography with nitrogen-phosphorus detection. A newer analytical method is available employing identical solvent mixtures and solvent to matrix ratio (as the first method), deuterated internal standards, and LC/MS/MS with an electrospray interface, operated in the positive ion mode. Contact: Tawanda Maignan, (703) 308-8050, e-mail address: maignan.tawanda@epa.gov.

12. PP 0F7785. (EPA-HQ-OPP-2010-0959). Syngenta Crop Protection, Inc., P.O. Box 18300, Greensboro, NC 27409, requests to establish tolerances in 40 CFR part 180 for residues of the fungicide difenoconazole, 1-[2-[2-chloro-4-(4-chlorophenoxy) phenyl]-4-methyl-1,3-dioxolan-2-ylmethyl]-1H-1,2,4-triazole, in or on oats, forage at 0.1 ppm; oats, hay at 0.1 ppm; oats, straw at 0.1 ppm; oats, grain at 0.1 ppm; rye, forage at 0.1 ppm; rye, straw at 0.1 ppm; rye, grain at 0.1 ppm; and wheat, hay at 0.1 ppm. Syngenta Crop Protection, Inc., has submitted a practical analytical method (AG-575B) for detecting and measuring levels of difenoconazole in or on food with a LOQ that allows monitoring of food with residues at or above the levels set in the proposed tolerances. Method REM 147.08 is also available for enforcement method for the determination of residues of difenoconazole in crops. Residues are qualified by LC/MS/MS. A practical analytical method (AG-544A) for detecting and measuring levels of difenoconazole in or on cattle tissues and milk, and poultry tissues and eggs with a LOQ that allows monitoring of food with residues at or above the levels set in the proposed tolerances. Tolerances in meat, milk, poultry or eggs were established for enforcement purposes. Contact: Rose Mary Kearns, (703) 305-5611, e-mail address: kearns.rosemary@epa.gov.

13. PP 0F7800. (EPA-HQ-OPP-2011-0388). BASF Corporation, P.O. Box 13528, Research Triangle Park, NC 27709, requests to amend the tolerances in 40 CFR part 180.493 for residues of the fungicide dimethomorph, [(E,Z)4-[3-(4-chlorophenyl)-3-(3,4-dimethoxyphenyl)-1-oxo-2-propenyl]-morpholine], in or on the raw agricultural commodity Brassica, Subgroup 5A from 2.0 ppm to 5.0 ppm; Brassica, Subgroup 5B from 20.0 ppm to 30.0 ppm; and green onion, Subgroup 3B from 2.0 ppm to 11.0 ppm. A reliable method for the determination of dimethomorph residues in Brassica- subgroup 5A, Brassica—subgroup 5B and green onions exists; this method is the FDA Multi-Residue Method, Protocol D, as published in the Pesticide Analytical Manual I. Contact: Tamue Gibson, (703) 305-9096, e-mail address: gibson.tamue@epa.gov.

14. PP 0F7808. (EPA-HQ-OPP-2011-0486). Syngenta Crop Protection, Inc., P.O. Box 18300, Greensboro, NC 27409, requests to establish tolerances in 40 CFR part 180 for residues of the fungicide cyprodinil, 2-pyrimidinamine, 4-cyclopropyl-6-methyl-N-phenyl, in or on nut, tree, group 14 at 0.10 ppm and almond, hulls at 18.0 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Lisa Jones, (703) 308-9424, e-mail address: jones.lisa@epa.gov.

15. PP 0F7816. (EPA-HQ-OPP-2011-0387). BASF Corporation, P.O. Box 13528, Research Triangle Park, NC 27709, requests to establish a tolerance in 40 CFR part 180 for residues of the fungicide dimethomorph, [(E,Z)4-[3-(4-chlorophenyl)-3-(3,4-dimethoxyphenyl)-1-oxo-2-propenyl]-morpholine], in or on vegetable, leafy at 16 ppm. A reliable method for the determination of dimethomorph residues in leafy vegetables exists; this method is the FDA Multi-Residue Method, Protocol D, as published in the Pesticide Analytical Manual I. Contact: Tamue Gibson, (703) 305-9096, e-mail address: gibson.tamue@epa.gov.

16. PP 1F7831. (EPA-HQ-OPP-2011-0487). Syngenta Crop Protection, Inc., P.O. Box 18300, Greensboro, NC 27409, requests to establish a tolerance in 40 CFR part 180 for residues of the fungicide fludioxonil, [4-(2,2-difluoro-1,3-benzodioxol-4-yl)-1H-pyrrole-3-carbonitrile], in or on vegetable, tuberous and corm, subgroup 01C at 0.04 ppm. Syngenta has developed and validated analytical methodology for enforcement purposes. This method (Syngenta Crop Protection Method AG-597B) has passed an Agency petition method validation for several commodities, and is currently the enforcement method for fludioxonil. This method has also been forwarded to the FDA for inclusion into PAM II. Contact: Lisa Jones, (703) 308-9424, e-mail address: jones.lisa@epa.gov.

Amended Tolerances

1. PP 1E7842. (EPA-HQ-OPP-2011-0343). Interregional Research Project Number 4 (IR-4), 500 College Road East, Suite 201W, Princeton, NJ 08540, requests to remove the established tolerances in 40 CFR 180.544 for residues of the insecticide methoxyfenozide, including its metabolites and degradates, in or on vegetable, root, subgroup 1A and citrus oil at 100 ppm from the table in paragraph (a) as well as fruit, citrus, group 10 from the table in paragraph (c) upon the approval of the proposed tolerances under “New Tolerance”. Additionally, the petition proposes to revise the tolerance expressions in 40 CFR 180.544 to read as follows:

(a)(1) Tolerances are established for residues of the insecticide methoxyfenozide, including its metabolites and degradates, in or on the commodities in the table below. Compliance with the tolerance levels specified below is to be determined by measuring only methoxyfenozide [benzoic acid, 3-methoxy-2-methyl-, 2-(3,5-dimethylbenzoyl)-2-(1,1-dimethylethyl) hydrazide].

(a)(2) Tolerances are established for residues of the insecticide methoxyfenozide, including its metabolites and degradates, in or on the commodities in the table below. Compliance with the tolerance levels specified below is to be determined by measuring only the sum of methoxyfenozide [benzoic acid, 3-methoxy-2-methyl-, 2-(3,5-dimethylbenzoyl)-2-(1,1-dimethylethyl) hydrazide] and its glucuronide metabolite (β-D-Glucopyranuronic acid, 3-[[2-(1,1-dimethylethyl)-2-(3,5-dimethylbenzoyl)-hydrazino]carbonyl]-2-methylphenyl-), calculated as the stoichiometric equivalent of methoxyfenozide.

(b) Section 18 emergency exemptions. Time-limited tolerances specified in the following table are established for residues of the insecticide methoxyfenozide, including its metabolites and degradates, in or on the specified agricultural commodities, resulting from use of the pesticide pursuant to FFIFRA section 18 emergency exemptions. Compliance with the tolerance levels specified below is to be determined by measuring only methoxyfenozide [benzoic acid, 3-methoxy-2-methyl-, 2-(3,5-dimethylbenzoyl)-2-(1,1-dimethylethyl) hydrazide]. The expired tolerances will be revoked on the date specified in the table.

(d) Indirect or inadvertent residues. (1) Tolerances are established for the indirect or inadvertent residues of the insecticide methoxyfenozide, including its metabolites and degradates, in or on the raw agricultural commodities in the table below, when present therein as a result of the application of methoxyfenozide to growing crops as listed in paragraph (a) of this section. Compliance with the tolerance levels specified below is to be determined by measuring only methoxyfenozide [benzoic acid, 3-methoxy-2-methyl-, 2-(3,5-dimethylbenzoyl)-2-(1,1-dimethylethyl) hydrazide].

(2) Tolerances are established for the indirect or inadvertent residues of the insecticide methoxyfenozide, including its metabolites and degradates, in or on the raw agricultural commodities in the table below, when present therein as a result of the application of methoxyfenozide to growing crops as listed in paragraph (a) of this section. Compliance with the tolerance levels specified below is to be determined by measuring only the sum of methoxyfenozide [benzoic acid, 3-methoxy-2-methyl-, 2-(3,5-dimethylbenzoyl)-2-(1,1-dimethylethyl) hydrazide] and the following metabolites (all calculated as the stoichiometric equivalent of methoxyfenozide): Free phenol of methoxyfenozide [3,5-dimethylbenzoic acid N-tert-butyl- N′-(3-hydroxy-2-methylbenzoyl) hydrazide], the glucose conjugate of the phenol [3,5-dimethyl benzoic acid N-tert-butyl- N'-[3 (β-D-glucopyranosyloxy)-2-methylbenzoyl]-hydrazide] and the malonylglycosyl conjugate of the phenol [3,5-dimethyl benzoic acid N-tert-butyl- N'-[3 (β-D-6-malonyl-glucopyranosyl-1-oxy)-2-methylbenzoyl]-hydrazide]. Contact: Sidney Jackson, (703) 305-7610, e-mail address: jackson.sidney@epa.gov.

2. PP 1E7851. (EPA-HQ-OPP-2011-0398). Interregional Research Project Number 4 (IR-4), 500 College Road East, Suite 201W, Princeton, NJ 08540, requests to amend the tolerances in 40 CFR 180.507 for residues of the fungicide azoxystrobin: (methyl (E)-2-[2-[6-(2-cyanophenoxy)pyrimidin-4-yloxy]phenyl]-3-methoxyacrylate) and the Z isomer of azoxystrobin, (methyl (Z)-2-[2-[6-(2-cyanophenoxy)pyrimidin-4-yloxy]phenyl]-3-methoxyacrylate), in or on vegetable, tuberous and corm, subgroup 1C from 0.03 ppm to 6.0 ppm. Upon approval of the aforementioned tolerances under “New Tolerance”, it is proposed that 40 CFR 180.507 be amended to remove the established tolerances for the residues of azoxystrobin in or on the raw agricultural commodities: Onion, bulb at 1.0 ppm; onion, green at 7.5 ppm; caneberry subgroup 13A, at 5.0 ppm; bushberry subgroup 13B at 3.0 ppm; Juneberry at 3.0 ppm; lingonberry at 3.0 ppm; salal at 3.0 ppm; grape at 1.0 ppm; strawberry at 10.0 ppm; tomato at 0.2 ppm; vegetable, fruiting, group 8, except tomato at 2.0 ppm; fruit, citrus, group 10 at 10.0 ppm; canola, seed at 1.0 ppm; cotton, undelinted seed at 0.6 ppm; crambe, seed at 0.5 ppm; flax, seed at 0.5 ppm; mustard, field, seed at 0.5 ppm; mustard, Indian, seed at 0.5 ppm; mustard, seed at 0.5 ppm; rapeseed, Indian at 0.5 ppm; rapeseed, seed at 0.5 ppm; safflower, seed at 0.5 ppm; sunflower, seed at 0.5 ppm; and potato at 0.03 ppm. Contact: Andrew Ertman, (703) 308-9367, e-mail address: ertman.andrew@epa.gov.

3. PP 1E7852. (EPA-HQ-OPP-2011-0300). Interregional Research Project Number 4 (IR-4), 500 College Road East, Suite 201W, Princeton, NJ 08540, requests to amend the tolerance in 40 CFR 180.475 for residues of the fungicide difenoconazole, 1-[2-[2-chloro-4-(4-chlorophenoxy)phenyl]-4-methyl-1,3-dioxolan-2-ylmethyl]-1H-1,2,4,-triazole, including its metabolites and degradates, in or on vegetable, tuberous and corm, subgroup 1C from 0.01 ppm to 4.0 ppm. In addition, the petition proposes to remove established tolerances in or on the raw agricultural commodities: Potato, processed waste at 0.04 ppm; vegetables, fruiting, group 8 at 0.6 ppm; fruit, citrus, group 10 at 0.6 ppm; fruit, pome, group 11 at 1.0 ppm; and strawberry at 2.5 ppm. Contact: Sidney Jackson, (703) 305-7610, e-mail address: jackson.sidney@epa.gov.

4. PP 1E7853. (EPA-HQ-OPP-2011-0395). Interregional Research Project Number 4 (IR-4), 500 College Road East, Suite 201W, Princeton, NJ 08540, requests to amend the tolerances in 40 CFR 180.516 for residues of the fungicide fludioxonil, (4-(2, 2-difluoro-1,3-benzodioxol-4-yl)-1H-pyrrole-3-carbonitrile), in or on avocado from 0.45 ppm to 5.0 ppm; sapote, black from 0.45 ppm to 5.0 ppm; canistel from 0.45 ppm to 5.0 ppm; sapote, mamey from 0.45 ppm to 5.0 ppm; mango from 0.45 ppm to 5.0 ppm; papaya from 0.45 ppm to 5.0 ppm; sapodilla from 0.45 ppm to 5.0 ppm; star apple from 0.45 ppm to 5.0 ppm; longan from 1.0 ppm to 20 ppm; lychee from 1.0 ppm to 20 ppm; pulasan from 1.0 ppm to 20 ppm; rambutan from 1.0 ppm to 20 ppm; Spanish lime from 1.0 ppm to 20 ppm; and tomato from 0.50 ppm to 3.0 ppm. Upon approval of the aforementioned tolerances under “New Tolerance”, the petition finally requests to amend 40 CFR 180.516 by removing the established tolerances for residues of fludioxonil in or on the following raw agricultural commodities: Onion, bulb at 0.2 ppm; onion, green at 7.0 ppm; caneberry subgroup 13A at 5.0 ppm; bushberry subgroup 13B at 2.0 ppm; Juneberry at 2.0 ppm; lingonberry at 2.0 ppm; salal at 2.0 ppm; grape at 1.0 ppm; strawberry at 2.0 ppm; vegetable, fruiting, group 8 at 0.01 ppm; tomatillo at 0.50 ppm; fruit, citrus, group 10 at 10 ppm; fruit, pome, group 11 at 5.0 ppm; and leafy greens subgroup 4A, except spinach at 30 ppm. Syngenta has developed and validated analytical methodology for enforcement purposes. This method (Syngenta Crop Protection Method AG-597B) has passed an Agency petition method validation for several commodities, and is currently the enforcement method for fludioxonil. An extensive database of method validation data using this method on various crop commodities is available. Contact: Laura Nollen, (703) 305-7390, e-mail address: nollen.laura@epa.gov.

5. PP 1E7854. (EPA-HQ-OPP-2011-0394). Interregional Research Project Number 4 (IR-4), 500 College Road East, Suite 201W, Princeton, NJ 08540, requests to amend the tolerances in 40 CFR 180.532 for residues of the fungicide cyprodinil, 4-cyclopropyl-6-methyl-N-phenyl-2-pyrimidinamine, in or on citrus, oil from 340 ppm to 60.0 ppm. Upon approval of the aforementioned tolerances under “New Tolerance”, it is proposed that 40 CFR 180.532 be amended to remove the established tolerances for the residues of cyprodinil in or on the following raw agricultural commodities: Onion, bulb at 0.60 ppm; onion, green at 4.0 ppm; caneberry subgroup 13A at 10 ppm; bushberry subgroup 13B at 3.0 ppm; Juneberry at 3.0 ppm; lingonberry at 3.0 ppm; salal at 3.0 ppm; grape at 2.0 ppm; strawberry at 5.0 ppm; fruit, pome at 1.7 ppm; tomatillo at 0.45 ppm; tomato at 0.45 ppm; and leafy greens subgroup 4A, except spinach at 30 ppm. Syngenta Crop Protection has developed and validated analytical methodology for enforcement purposes. This method (Syngenta Crop Protection Method AG-631B) has passed an Agency petition method validation for several commodities and is currently the enforcement method for cyprodinil. An extensive database of method validation data using this method on various crop commodities is available. Contact: Laura Nollen, (703) 305-7390, e-mail address: nollen.laura@epa.gov.

6. PP 1E7855. (EPA-HQ-OPP-2011-0397). Interregional Research Project Number 4 (IR-4), 500 College Road East, Suite 201W, Princeton, NJ 08540, requests to remove the established tolerance in 40 CFR 180.434 for residues of the fungicide propiconazole, 1-[[2-(2,4-dichlorophenyl)-4-propyl-1,3-dioxolan-2-yl] methyl]-1H-1,2,4-triazole and its metabolites determined as 2,4,-dichlorobenzoic acid and expressed as parent compound, in or on fruit, stone, group 12 at 1.0 ppm. Contact: Andrew Ertman, (703) 308-9367, e-mail address: ertman.andrew@epa.gov.

7. PP 1E7864. (EPA-HQ-OPP-2011-0449). Interregional Research Project Number 4 (IR-4), 500 College Road East, Suite 201W, Princeton, NJ 08540, requests to remove the existing tolerances in 40 CFR 180.599 for residues of the miticide acequinocyl, [2-(acetyloxy)-3-dodecyl-1,4-naphthalenedione] and its metabolite, 2-dodecyl-3-hydroxy-1,4-naphthoquinone, expressed as acequinocyl equivalents, in or on grape at 1.6 ppm and strawberry at 0.4 ppm, as they will be superseded by inclusion in subgroup 13-07F and 13-07G, respectively under “New Tolerance”. Contact: Laura Nollen, (703) 305-7390, e-mail address: nollen.laura@epa.gov.

8. PP 0F7808. (EPA-HQ-OPP-2011-0486). Syngenta Crop Protection, Inc., P.O. Box 18300, Greensboro, NC 27409, requests to remove established tolerances in 40 CFR 180.532 for residues of the fungicide cyprodinil: 2-pyrimidinamine, 4-cyclopropyl-6-methyl-N-phenyl, in or on almond at 0.02 ppm and pistachio at 0.10 ppm upon approval of the aforementioned tolerances under “New Tolerance”. Contact: Lisa Jones, (703) 308-9424, e-mail address: jones.lisa@epa.gov.

9. PP 1F7871. (EPA-HQ-OPP-2009-0677). Arysta LifeScience North America, LLC, 15401 Weston Parkway, Suite 150, Cary, NC 27513, requests to amend the tolerances in 40 CFR 180.609 for residues of the fungicide fluoxastrobin, (1E)-[2-[[6-(2-chlorophenoxy)-5-fluoro-4-pyrimidinyl]oxy]phenyl] (5,6-dihydro-1,4,2-dioxazin-3-yl)methanone O-methyloxime and its Z isomer, (1Z)-[2-[[6-(2-chlorophenoxy)-5-fluoro-4-pyrimidinyl]oxy]phenyl](5,6-dihydro-1,4,2-dioxazin-3-yl)methanone O-methyloxime, in or on peanut from 0.01 ppm to 0.02 ppm; and peanut, oil, refined from 0.03 ppm to 0.06 ppm. Adequate analytical methodology is available for enforcement purposes. The method comprises microwave solvent extraction followed by a solid phase extraction clean up and quantification by HPLC/MS/MS. The individual detector responses for measured E- and Z-isomers is summed to give total residue. Contact: Heather Garvie, (703) 308-0034, e-mail address: garvie.heather@epa.gov.

List of Subjects

Environmental protection, Agricultural commodities, Feed additives, Food additives, Pesticides and pests, Reporting and recordkeeping requirements.

Dated: July 8, 2011.
Lois Rossi,
Director, Registration Division, Office of Pesticide Programs.

[FR Doc. 2011-18101 Filed 7-19-11; 8:45 am]

BILLING CODE 6560-50-P